DEPARTMENT OF ENERGY

Federal Energy Regulatory Commission

[Docket No. IN14-4-000]

Vitol Inc. and Federico Corteggiano; Updated Notice of Designation of Commission Staff as Non-Decisional

With respect to an order issued by the Commission on July 10, 2019, in the above-captioned docket, with the exceptions noted below, the staff of the Office of Enforcement are designated as non-decisional in deliberations by the Commission in this docket.¹ Accordingly, pursuant to 18 CFR 385.2202 (2018), they will not serve as advisors to the Commission or take part in the Commission's review of any offer of settlement. Likewise, as non-decisional staff, pursuant to 18 CFR 385.2201 (2018), they are prohibited from communicating with advisory staff concerning any deliberations in this docket.

¹ Vitol Inc. and Federico Corteggiano, 168 FERC 61,013 (2019).

Exceptions to this designation as non-decisional are:

Jeremy Medovoy

Mark Nagle

Jessica Wack

Ambrea Watts

Benjamin Jarrett

Alfred Jasins

Darice Xue

Joel Douglas

Michelle Norman

Dated: July 17, 2019.
Nathaniel J. Davis, Sr.,
Deputy Secretary.

[FR Doc. 2019-15579 Filed 7-22-19; 8:45 am]

BILLING CODE 6717-01-P